DEPARTMENT OF TRANSPORTATION

Federal Aviation Administration

Notice of Passenger Facility Charge (PFC) Approvals and Disapprovals

AGENCY: Federal Aviation Administration (FAA), DOT.

ACTION: Monthly Notice of PFC Approvals and Disapprovals. In February 2005, there were three applications approved. This notice also includes information on on application, approved in December 2004, inadvertently left off the December 2004 notice. Additionally, 23 approved amendments to previously approved applications are listed.

SUMMARY: The FAA publishes a monthly notice, as appropriate, of PFC approvals and disapprovals under the provisions of the Aviation Safety and Capacity expansion Act of 1990 (Title IX of the Omnibus Budget Reconciliation Act of 1990) (Pub. L. 101-508) and Part 158 of the Federal Aviation Regulations (14 CFR Part 158). This notice is published pursuant to paragraph d of § 158.29.

PFC Applications Approved

Public Agency: City of Fort Collins and City of Loveland, Fort Collins, Colorado.

Application Number: 05-04-C-00-FNL.

Application Type: Impose and use a PFC.

PFC Level: $4.50.

Total PFC Revenue Approved in This Decision: $315,329.

Earliest Charge Effective Date: March 1, 2005.

Estimated Charge Expiration Date: November 1, 2007.

Class of Air Carriers Not Required to Collect PFC's: None.

Brief Description of Projects Approved For Collection and Use:

Rehabilitation of runway 15/33 (phases II and III).

Fog seal and mark runway 15/33.

Replace airfield lighting controls.

Decision Date: December 29, 2004.

FOR FURTHER INFORMATION CONTACT: Christopher Schaffer, Denver Airports District Office, (303) 342-1258.

Public Agency: Lafayette Airport Commission, Lafayette, Louisiana.

Application Number: 05-04-C-00-LFT.

Application Type: Impose and use a PFC.

PFC Level: $4.50.

Total PFC Revenue Approved in This Decision: $1,967,250.

Earliest Charge Effective Date: May 1, 2005.

Estimated Charge Expiration Date: April 1, 2008.

Class of Air Carriers Not Required to Collect PFC's: Air taxi/commercial carriers operating under Part 135 and filing FAA Form 1800-31.

Determination: Approved. Based on information contained in the public agency's application, the FAA has determined that the approved class accounts for less than 1 percent of the total annual enplanements at Lafayette Regional Airport.

Brief Description of Projects Approved For Collection and Use:

Replace airfield signage.

Upgrade airfield electrical system.

Rehabilitate airfield lighting control system.

Rehabilitate taxiway lighting.

PFC administrative costs.

Brief Description of Disapproved Project: Upgrade runway 11/29 edge lighting.

Determination: The existing medium intensity lighting meets design standards and upgrading to high intensity lighting will not facilitate improved approach/departure minima. Therefore, the project does not meet the requirements of § 158.15.

Decision Date: February 14, 2005.

FOR FURTHER INFORMATION CONTACT: G. Thomas Wade, Southwest Region Airports Division, (817) 222-5613.

Public Agency: Pineallas County, Clearwater, Florida.

Application Number: 05-01-C-00-PIE.

Application Type: Impose and use a PFC.

PFC Level: $3.00.

Total PFC Revenue Approved in This Decision: $3,357,649.

Earliest Charge Effective Date: May 1, 2005.

Estimated Charge Expiration Date: November 1, 2007.

Class of Air Carriers Not Required to Collect PFC'S: Air taxi/commercial operators filing FAA Form 1800-31.

Determination: Approved. Based on information contained in the public agency's application, the FAA has determined that the approved class accounts for less than 1 percent of the total annual enplanements at St. Petersburg-Clearwater International Airport.

Brief Description of Projects Approved For Collection and Use:

Overlay of terminal ramp and taxiways A, C, and D.

Water rescue craft acquisition and fire house expansion.

Airfield guidance sings installation.

Airport and airfield lighting control panel relocation.

Security access system installation.

Terminal building expansion and renovation (phases 1 and 2).

Taxiway T relocation.

Runway 17/35 lighting rehabilitation.

Baggage claim expansion (phases 1 through 5).

Security fence improvement (1999 project).

Runway 17/35 marking.

Runway 17L/35R environmental assessment study.

2003 master plan update, stormwater plan, and benefit costs analysis for runway extension.

Runway 17L/35R threshold relocation.

Land acquisition, runway 35R.

Security fencing and enhancements (2001 project).

Runway 17L/35R rehabilitation.

Terminal apron rehabilitation.

Aircraft rescue and firefighting trucks, rescue boat, and airport sweeper.

Additional environmental assessment and pre-permitting runway 17L/35R extension.

Runway 17L/35R extension/safety areas and related land acquisition.

Taxiway M lighting rehabilitation.

Security enhancements (fencing 2004/2005 project).

Environmental assessment and benefit cost analysis for parallel general aviation runway.

Terminal expansion—baggage processing area.

PFC application No. 1 development and PFC audits.

Decision Date: February 16, 2005.

FOR FURTHER INFORMATION CONTACT: Vernon P. Rupinta, Orlando Airports District Office, (407) 812-6331, extension 124.

Public Agency: City of San Antonio, Texas.

Application Number: 05-04-C-00-SAT.

Application Type: Impose and use a PFC.

PFC Level: $3.00.

Total PFC Revenue Approved in This Decision: $50,682,244.

Earliest Charge Effective Date: November 1, 2012.

Estimated Charge Expiration Date: April 1, 2016.

Class of Air Carriers Not Required to Collect PFC's: Non-scheduled on-demand air carriers (formerly identified as air taxi/commercial operators) filing FAA Form 1800-31.

Determination: Approved. Based on information contained in the public agency's application, the FAA has determined that the approved class accounts for less than 1 percent of the total annual enplanements at San Antonio International Airport.

Brief Description of Projects Approved for Collection and Use:

Construct elevated terminal roadways.

Upgrade central utility plant.

Construct apron.

Install utilities—terminal expansion.

Replace two aircraft rescue and firefighting vehicles.

Conduct environmental impact statement.

Reconstruct terminal area roadways.

Install noise monitoring system.

Terminal and airfield security.

Install airfield electrical improvements.

PFC development and administrative costs.

Decision Date: February 22, 2005.

FOR FURTHER INFORMATION CONTACT: G. Thomas Wade, Southwest Region Airports Division, (817) 222-5613.

Amendments to PFC Approvals
Amendment No. (City, State) | Amendment approved (Date) | Original approved net PFC (Revenue) | Amended approved net PFC (Revenue) | Original estimated charge (Exp. Date) | Amended estimated charge (Exp. Date)
01-03-C-01-GTF, Great Falls, MT | 08/02/04 | $8,481,340 | $8,501,340 | 09/01/18 | 09/01/18
* 97-02-C-01-FCA, Kalispell, MT | 08/25/04 | 8,217,803 | 8,217,803 | 06/01/20 | 09/01/13
96-02-C-02-BOI, Boise, ID | 12/16/04 | 11,274,478 | 10,540,605 | 08/01/01 | 08/01/01
94-01-C-03-BTM, Butte, MT | 12/28/04 | 716,406 | 717,553 | 08/01/01 | 01/01/01
95-02-U-01-BTM, Butte, MT | 12/28/04 | ⁽¹⁾ | ⁽¹⁾ | 08/01/01 | 01/01/01
97-03-C-03-BTM, Butte, MT | 12/28/04 | 53,260 | 53,260 | 07/01/01 | 05/01/01
97-03-C-04-BTM, Butte, MT | 12/28/04 | 47,131 | 47,131 | 05/01/01 | 05/01/01
98-04-C-01-BTM, Butte, MT | 12/28/04 | 215,040 | 155,272 | 05/01/03 | 08/01/02
94-01-C-02-TXK, Texarakana, AR | 01/06/05 | 547,484 | 363,302 | 12/01/99 | 09/01/98
98-02-C-02-TXK, Texarkana, AR | 01/06/05 | 412,532 | 286,230 | 08/01/04 | 02/01/01
01-03-C-01-TXK, Texarkana, AR | 01/06/05 | 125,891 | 121,170 | 06/01/05 | 12/01/02
02-04-C-01-TXK, Texarkana, AR | 01/06/05 | 63,855 | 39,993 | 10/01/05 | 07/01/03
03-05-C-01-TXK, Texarkana, AR | 01/06/05 | 98,250 | 97,698 | 08/01/06 | 03/01/04
92-01-C-04-HLN, Helena, MT | 01/12/05 | 1,8777,003 | 1,949,098 | 10/01/03 | 10/01/03
96-02-U-03-HLN, Helena, MT | 01/12/05 | ⁽¹⁾ | ⁽¹⁾ | 10/01/03 | 10/01/03
01-01-C-01-MCN, Macon, GA | 02/01/05 | 356,842 | 508,897 | 04/01/05 | 10/01/06
02-04-C-01-TLH, Tallahassee, FL | 02/10/05 | 10,063,307 | 11,500,458 | 10/01/07 | 02/01/07
* 03-04-C-01-ICT, Wichita, KS | 02/15/05 | 9,329,500 | 9,329,500 | 11/01/07 | 06/01/07
01-01-C-01-SAT, San Antonio, TX | 02/15/05 | 102,524,363 | 116,417,900 | 11/01/09 | 11/01/12
03-02-U-01-SAT, San Antonio, TX | 02/15/05 |  | ⁽¹⁾ | 11/01/09 | 11/01/12
04-03-U-01-SAT, San Antonio, TX | 02/15/05 | ⁽¹⁾ | ⁽¹⁾ | 11/01/09 | 11/01/12
99-04-C-02-CPR, Casper, WY | 02/18/15 | 471,251 | 340,144 | 06/01/03 | 06/01/03
* 00-01-C-01-LCH, Lake Charles, LA | 02/23/05 | 4,251,977 | 1,777,234 | 03/01/21 | 07/01/09
¹ Not applicable.

Note: The amendments denoted by an asterisk (*) include a change to the PFC level charged from $3.00 per enplaned passenger to $4.50 per enplaned passenger. For Kalispell, MT, this change is effective on April 1, 2005. For Wichita, KS, and Lake Charles, LA, this change is effective on May 1, 2005.)

Issued in Washington, DC on August 4, 2005.
Joe Hebert,
Manager, Financial Analysis and Passenger Facility Charge Branch.

[FR Doc. 05-15850 Filed 8-10-05; 8:45 am]

BILLING CODE 4910-13-M